DEPARTMENT OF THE INTERIOR

National Park Service Subsistence Resource Commission; Meeting

AGENCY: National Park Service.

ACTION: Announcement of Subsistence Resource Commission meeting.

SUMMARY: Notice is hereby given in accordance with the Federal Advisory Committee Act that a Meeting of the Denali National Park Subsistence Resource Commission's will be held on Friday, August 23, 2002, at the McKinley Village Community Center, McKinley Village, Alaska. The meeting will be open to the public. Any person may file with the Commission a written statement concerning the matters to be discussed. The purpose of the meeting will be to continue work on currently authorized and proposed National Park Service subsistence hunting program recommendations including other related subsistence management issues.

The following agenda items will be discussed.

1. Call to order (SRC Chair).

2. Roll Call and Confirmation of Quorum.

3. SRC Chair and Superintendent's Welcome and Introductions.

4. Review and Adopt Agenda.

5. Review and adopt minutes from last meeting.

6. Public and agency comments.

7. Denali Back Country Management Plan updates.

8. Review Federal Subsistence Fisheries Proposals for 2003.

9. Moose management issues in GMU 16B.

10. Nikolai Subsistence Community Use Profiles and Fisheries TEK study update.

11. Spruce Creek access issues.

12. Alaska Board of Game Actions.

13. Federal Subsistence Board Actions.

14. Public and agency comments.

15. Set time and place of next Denali National Park SRC meeting.

16. Adjournment.

DATES: The meeting will be held from 9:00 a.m. to 5:00 p.m. on Friday, August 23, 2002.

LOCATION: The meeting will be held at the McKinley Village Community Center, McKinley Village, Alaska.

FOR FURTHER INFORMATION CONTACT: Persons who want further information concerning the meeting may contact Superintendent Paul Anderson at (907) 683-2294 or Hollis Twitchell, Subsistence and Cultural Resources Coordinator at (907) 683-9544 or (907) 455-0673.

SUPPLEMENTARY INFORMATION: The Subsistence Resource Commissions are authorized under title VIII, Section 808, of the Alaska National Interest Lands Conservation Act, Pub. L. 96-487, and operation in accordance with the provisions of the Federal Advisory Committees Act.

Draft minutes of the meeting will be available for public inspection approximately six weeks after the meeting from: Superintendent Denali National Park and Preserve, P.O. Box 9, Denali Park, Alaska 99755.

Robert L. Amberger,
Regional Director, National Park Service, Alaska Region.

[FR Doc. 02-15291 Filed 6-17-02; 8:45 am]

BILLING CODE 4310-70-M